CONSUMER PRODUCT SAFETY COMMISSION

16 CFR Part 1272

[Docket No. CPSC-2023-0021]

Marking of Toy, Look-Alike, and Imitation Firearms; Correction

AGENCY: Consumer Product Safety Commission.

ACTION: Direct final rule; correction.

SUMMARY: The Federal Energy Management Improvement Act Update transferred authority for regulating the marking of toy, look-alike, and imitation firearms from the Department of Commerce to the Consumer Product Safety Commission. On May 11, 2023, the Commission issued a direct final rule to adopt the Department of Commerce rule for the marking of toy, look-alike, and imitation firearms, with non-substantive and conforming changes. That document contained a typographical error. This document corrects that error.

DATES: Effective June 26, 2023.

FOR FURTHER INFORMATION CONTACT: Salman Sarwar, Compliance Officer, U.S. Consumer Product Safety Commission, 4330 East West Highway, Bethesda, MD 20814; telephone: (301) 504-7682; email: ssarwar@cpsc.gov.

SUPPLEMENTARY INFORMATION: The Commission is correcting a typographical error in the direct final rule, Marking of Toy, Look-Alike, and Imitation Firearm, 16 CFR part 1272, which appeared in the Federal Register on May 11, 2023. 88 FR 30226. This document corrects a typographical error in the numbering of § 1272.5 of the direct final rule. The codified text numbered § 1272.5 (Preemption) was erroneously numbered as § 272.5. This document corrects that error by changing the number for the preemption section of the rule from § 272.5 to § 1272.5. This document corrects a typographical error; it does not make any substantive changes to the direct final rule.

Correction

In FR Rule Doc. No. 2023-09999 appearing on page 30226 in the Federal Register of Thursday, May 11, 2023, the following correction is made

§ 1272.5 [Corrected]

1. On page 30229, in the third column, correct “§ 272.5 Preemption” to read “§ 1272.5 Preemption”.

Alberta Mills,
Secretary, U.S. Consumer Product Safety Commission.

[FR Doc. 2023-13137 Filed 6-20-23; 8:45 am]

BILLING CODE 6355-01-P